DEPARTMENT OF ENERGY

Federal Energy Regulatory Commission

[Docket No. CP02-60-000]

CMS Trunkline LNG Company, LLC; Notice of Availability of the Environmental Assessment for the Proposed Trunkline LNG Expansion Project

August 1, 2002.

The staff of the Federal Energy Regulatory Commission (FERC or Commission) has prepared an environmental assessment (EA) on the liquefied natural gas (LNG) facilities proposed by CMS Trunkline LNG Company, LLC (Trunkline LNG) in the above referenced docket.

The EA was prepared to satisfy the requirements of the National Environmental Policy Act. The staff concludes that approval of the proposed project, with appropriate mitigating measures, would not constitute a major Federal action significantly affecting the quality of the human environment.

The EA assesses the potential environmental effects of the proposed project which includes the expansion of the existing Trunkline LNG import terminal in Calcasieu Parish, Louisiana. Trunkline LNG proposes to:

• Construct an LNG ship unloading facility;

• Construct a 880,000-barrel double walled LNG storage tank;

• Construct three first-stage pumps;

• Construct four second-stage pumps, with a recondenser vessel;

• Construct three submerged combustion vaporizers;

• Construct a high expansion foam building;

• Construct an electrical building;

• Construct a cryogenic fuel gas/ship vapor return compressor; and

• Construct two nominal 22 megawatt gas turbine electric generators.

The proposed facilities would expand the storage and sendout capacity of Trunkline LNG's existing LNG import terminal in Calcasieu Parish, Louisiana. The proposal would: (1) Expand the storage capacity of the LNG terminal; (2) increase the sustainable daily sendout capability to 1,200 million standard cubic feet per day (MMscfd) and its peaking capacity to 1,300 MMscfd; and (3) allow the terminal to accommodate two LNG tankers at one time. This filing is related to Docket No. CP02-55-000, CMS Trunkline Gas Company, LLC's proposal to increase the maximum capacity at its metering facilities at the tailgate of the LNG terminal.

The EA has been placed in the public files of the FERC. A limited number of copies of the EA are available for distribution and public inspection at: Federal Energy Regulatory Commission, Public Reference and Files Maintenance Branch, 888 First Street, NE., Room 2A, Washington, DC 20426, (202) 208-1371.

Copies of the EA have been mailed to Federal, state and local agencies, public interest groups, interested individuals, newspapers, and parties to this proceeding.

Any person wishing to comment on the EA may do so. To ensure consideration prior to a Commission decision on the proposal, it is important that we receive your comments before the date specified below. Please carefully follow these instructions to ensure that your comments are received in time and properly recorded:

• Send an original and two copies of your comments to:

Secretary, Federal Energy Regulatory Commission, 888 First St., NE., Room 1A, Washington, DC 20426.

• Label one copy of the comments for the attention of the Gas Branch 1, PJ11.1;

• Reference Docket No. CP02-60-000; and

• Mail your comments so that they will be received in Washington, DC on or before August 30, 2002.

Please note that we are continuing to experience delays in mail deliveries from the U.S. Postal Service. As a result, we will include all comments that we receive within a reasonable time frame in our environmental analysis of this project. However, the Commission encourages electronic filing of any comments or interventions or protests to this proceeding. See 18 CFR 385.2001(a)(1)(iii) and the instructions on the Commission's web site at http://www.ferc.gov under the “e-Filing” link and the link to the User's Guide. Before you can file comments you will need to create a free account which can be created by clicking on “Login to File” and then “New User Account.”

Comments will be considered by the Commission but will not serve to make the commentor a party to the proceeding. Any person seeking to become a party to the proceeding must file a motion to intervene pursuant to Rule 214 of the Commission's Rules of Practice and Procedures (18 CFR 385.214).¹ Only intervenors have the right to seek rehearing of the Commission's decision.

¹ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the proposed project is available from the Commission's Office of External Affairs, at (866) 208-FERC or on the FERC Internet website (www.ferc.gov) using the “RIMS” link to information in this docket number. Click on the “RIMS” link select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2222.

Linwood A. Watson, Jr.,
Deputy Secretary.

[FR Doc. 02-19917 Filed 8-6-02; 8:45 am]

BILLING CODE 6717-01-P